DEPARTMENT OF STATE

[Public Notice 5465]

Determination on U.S. Position on Proposed European Bank for Reconstruction and Development (EBRD) Projects in Serbia

Pursuant to section 561 of the Foreign Operations, Export Financing, and Related Programs Appropriations Act, 2006 (Pub. L. 109-102) (FOAA), and Department of State Delegation of Authority Number 289, I hereby determine that a 35 million euro equity investment as part of a Joint Venture with Gibor-BSR Europe BV for the purpose of developing, managing and owning real estate, particularly residential projects in capital cities in Romania, Russia, Serbia, Ukraine, Croatia, and Bulgaria, and a 25 million euro equity investment in Bluehouse Accession Property (II), L.P. a limited partnership to be incorporated in Cyprus, will contribute to a stronger economy in Serbia, directly supporting implementation of the Dayton Accords. I therefore waive the application of Section 561 of the FOAA to the extent that provision would otherwise prevent the U.S. Executive Directors of the EBRD from voting in favor of these projects.

This Determination shall be reported to the Congress and published in the Federal Register.

Dated: July 10, 2006.
Daniel Fried,
Assistant Secretary of State for European and Eurasian Affairs, Department of State.

[FR Doc. E6-11114 Filed 7-13-06; 8:45 am]

BILLING CODE 4710-22-P